SMALL BUSINESS ADMINISTRATION

13 CFR Part 124

[Docket No. SBA-2011-0013]

8(a) Business Development Program Regulation Changes; Tribal Consultation

AGENCY: U.S. Small Business Administration (SBA).

ACTION: Notice; correction.

SUMMARY: The Small Business Administration (SBA) published a document in the Federal Register on Friday, May 13, 2011, concerning 8(a) Business Development Program Regulation Changes; Tribal Consultation. SBA announced holding tribal consultation meetings to discuss the recent changes to the 8(a) BD program regulations, specifically to take comments on the mandatory reporting of community benefits provision scheduled to take effect on September 9, 2011.

FOR FURTHER INFORMATION CONTACT: LaTanya Wright, Senior Advisor, Office of Business Development, 409 Third Street, SW., Washington, DC 20416, at (202) 205-5852, Fax (202) 205-6139, or e-mail: latanya.wright@sba.gov.

SUPPLEMENTARY INFORMATION:

Correction

In the Federal Register of May 13, 2011, in FR Doc. 2011-11172, on page 27859, in the third column, correct item 2 in the ADDRESSES section to read:

2. The Anchorage Tribal Consultation address is the Anchorage Marriott Downtown, 820 West 7th Avenue, Anchorage, AK 99501.

Dated: June 1, 2011.
LeAnn C. Delaney,
Acting Associate Administrator for Business Development.

[FR Doc. 2011-14156 Filed 6-9-11; 8:45 am]

BILLING CODE 8025-01-P